COMMISSION ON CIVIL RIGHTS

Agenda and Notice of Public Meeting of the Washington State Advisory Committee

Notice is hereby given, pursuant to the provisions of the rules and regulations of the U.S. Commission on Civil Rights, that a meeting of the Washington State Advisory Committee to the Commission will convene at 10 a.m. and adjourn at 12 p.m. on May 2, 2001, at the Westin Seattle, 1900 Fifth Avenue, Seattle, Washington, 98101. The purpose of the meeting is to plan future activities and discuss civil rights issues.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, April 4, 2001.
Edward A. Hailes, Jr.,
General Counsel.

[FR Doc. 01-8699 Filed 4-9-01; 8:45 am]

BILLING CODE 6335-01-P